Proclamation 9718 of March 30, 2018

Second Chance Month, 2018

By the President of the United States of America

A Proclamation

During Second Chance Month, our Nation emphasizes the need to prevent crime on our streets, to respect the rule of law by prosecuting individuals who break the law, and to provide opportunities for people with criminal records to earn an honest second chance. Affording those who have been held accountable for their crimes an opportunity to become contributing members of society is a critical element of criminal justice that can reduce our crime rates and prison populations, decrease burdens to the American taxpayer, and make America safer.

According to the Bureau of Justice Statistics, each year, approximately 650,000 individuals complete prison sentences and rejoin society. Unfortunately, two-thirds of these individuals are re-arrested within 3 years of their release. We must do more—and use all the tools at our disposal—to break this vicious cycle of crime and diminish the rate of recidivism.

For the millions of American citizens with criminal records, the keys to successful re-entry are becoming employable and securing employment. Beyond the income earned from a steady paycheck, gainful employment teaches responsibility and commitment and affirms human dignity. As a Nation, we are stronger when more individuals have stable jobs that allow them to provide for both themselves and their loved ones.

I am committed to advancing reform efforts to prevent crime, improve reentry, and reduce recidivism. I expressed this commitment in my 2018 State of the Union Address and reinforced it by signing an Executive Order to reinvigorate the “Federal Interagency Council on Crime Prevention and Improving Reentry.” In the spirit of these efforts, I call on Federal, State, and local prison systems to implement evidence-based programs that will provide prisoners with the skills and preparation they need to succeed in society. This includes programs focused on mentorship and treatment for drug addiction and mental health issues, in addition to job training.

This month, we celebrate those who have exited the prison system and successfully reentered society. We encourage expanded opportunities for those who have worked to overcome bad decisions earlier in life and emphasize our belief in second chances for all who are willing to work hard to turn their lives around.

NOW, THEREFORE, I, DONALD J. TRUMP, President of the United States of America, by virtue of the authority vested in me by the Constitution and the laws of the United States, do hereby proclaim April 2018 as Second Chance Month. I call on all Americans to commemorate this month with events and activities that raise public awareness about preventing crime and providing those who have completed their sentences an opportunity for an honest second chance.

IN WITNESS WHEREOF, I have hereunto set my hand this thirtieth day of March, in the year of our Lord two thousand eighteen, and of the Independence of the United States of America the two hundred and forty-second.

[FR Doc. 2018-07029

Filed 4-3-18; 11:15 am]

Billing code 3295-F8-P